SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and extensions of OMB-approved information collections and a new collection.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers shown below.

(OMB), Office of Management and Budget, Attn: Desk Officer for SSA, Fax: 202-395-6974, E-mail address: OIRA_Submission@omb.eop.gov.

(SSA), Social Security Administration, DCBFM, Attn: Reports Clearance Officer, 1332 Annex Building, 6401 Security Blvd., Baltimore, MD 21235, Fax: 410-965-6400, E-mail address: OPLM.RCO@ssa.gov.

I. The information collection below is pending at SSA. SSA will submit it to OMB within 60 days from the date of this notice. To be sure we consider your comments, we must receive them no later than September 8, 2009. Individuals can obtain copies of the collection instrument by calling the SSA Reports Clearance Officer at 410-965-3758, or by writing to the e-mail address we list above.

1. Statement of Reclamation Action—31 CFR 210—0960-0734. SSA uses Form SSA-1713 to collect information to determine if a Canadian bank is able to return erroneous payments, and to determine how and when it can return the payments made after the death of a beneficiary who elected to have payments sent to Canada. Form SSA-1712 (or SSA-1712 CN) is the cover sheet SSA prepares to request return of a payment erroneously made after the death of the recipient. SSA sends Form SSA-1712 with Form SSA-1713. The respondents are Canadian financial institutions that received Social Security payments.

Type of Request: Extension of an OMB-approved information collection.

Number of Respondents: 15.

Frequency of Response: 1.

Average Burden per Response: 5 minutes.

Estimated Annual Burden: 1 hour.

II. SSA has submitted the information collections we list below to OMB for clearance. Your comments on the information collections would be most useful if OMB and SSA receive them within 30 days from the date of this publication. To be sure we consider your comments, we must receive them no later than August 10, 2009. You can obtain a copy of the OMB clearance packages by calling the SSA Reports Clearance Officer at 410-965-3758 or by writing to the above e-mail address.

1. Statement of Claimant or Other Person—20 CFR 404.702 & 416.570—0960-0045. SSA uses the SSA-795 to obtain information from claimants or other persons having knowledge of facts in connection with claims for Supplemental Security Income (SSI) or Social Security benefits when there is no standard form to collect the needed information. SSA then uses the information to process claims for benefits or for ongoing issues related to the above programs. The respondents are applicants/recipients of SSI or Social Security benefits, or others who are in a position to provide information pertinent to the claim(s).

Type of Request: Revision of an OMB-approved information collection.

Number of Respondents: 305,500.

Frequency of Response: 1.

Average Burden per Response: 15 minutes.

Estimated Annual Burden: 76,375 hours.

2. Claim for Amounts Due in the Case of a Deceased Beneficiary—20 CFR 404.503(b)—0960-0101. A completed SSA-1724 ensures proper payment of an underpayment due a deceased beneficiary. It is required when there is insufficient information in the file to identify the person(s) entitled to the underpayment, or the person's address. Generally, SSA collects the information when a surviving widow(er) is not already entitled to a monthly benefit on the same earnings record, or is not filing for a lump-sum death payment as a living-with spouse. The respondents are applicants for underpayments owed to deceased beneficiaries.

Note: This is a correction notice. SSA published this information collection with the incorrect burden information on April 07, 2009 at 74 FR 15808. We are revising the burden information.

Type of Request: Revision of an OMB-approved information collection.

Number of Respondents: 250,000.

Frequency of Response: 1.

Average Burden per Response: 10 minutes.

Estimated Annual Burden: 41,667 hours.

3. State Agency Report of Obligations for SSA Disability Programs (SSA-4513); Time Report of Personnel Services for Disability Determination Services (SSA-4514); State Agency Schedule of Equipment Purchased for SSA Disability Programs (SSA-871)—20 CFR 404.1626—0960-0421. SSA uses Forms SSA-4513, SSA-4514, and SSA-871 to collect data necessary for detailed analysis and evaluation of costs State Disability Determination Services (DDS) incur in making disability determinations for SSA. The data are also utilized in determining funding levels for each DDS. Respondents are State DDSs.

Type of Request: Revision of an OMB-approved information collection.

Number of Respondents: 54.

Estimated Annual Burden: 756 hours.

| Respondents | Frequency of response | Total annual responses | Average burden per response (min) | Estimated annual burden (hours)
SSA-4513 &Addendum | 54 | 4 | 216 | 90 | 324
SSA-4514 | 54 | 4 | 216 | 90 | 324
SSA-871 | 54 | 4 | 216 | 30 | 108
Totals | 54 |  |  |  | 756

4. Social Security Number Verification Services—20 CFR 401.45—0960-0660. Internal Revenue Service regulations obligate employers to provide SSA with wage and tax data using Form W-2 or its electronic equivalent. As part of this process the employer must furnish the employee's name and Social Security number (SSN). The employee's name and SSN must match SSA's records for SSA to post earnings to the employee's earnings record, which SSA maintains. SSA offers several cost-free methods for employers to verify employee information. The cost-free methods include:

1. Internet-based service, known as the Social Security Number Verification Service (SSNVS)—employers can verify if the reported names and SSNs of their employees match SSA's records;

2. The Employee Verification Service (EVS)—employers verify, via paper and telephone, whether the reported names and SSNs of their employees match SSA's records;

3. SSA's National 800 Number—an automated telephone employee verification service (TNEV) allows callers with an SSA-authorized PIN and password to verify employees' names and SSNs through TNEV.

Type of Request: Revision of an OMB-approved information collection.

Verification system | Number of respondents | Frequency of response | Number of responses | Average burden per response (minutes) | Total annual burden (hours)
EVS | 15,000 | 2 | 30,000 | 10 | 5,000
EVS One-Time Registration | 50 | 1 | 50 | 2 | 2
SSNVS | 200,000 | 60 | 12,000,000 | 5 | 1,000,000
TNEV | 35,000 | 16 | 560,000 | 9 | 84,000
Totals | 250,050 | 79 | 12,590,050 | 26 | 1,089,002

Dated: July 6, 2009.
John Biles,
Reports Clearance Officer, Center for Reports Clearance, Social Security Administration.

[FR Doc. E9-16303 Filed 7-9-09; 8:45 am]

BILLING CODE 4191-02-P